DEPARTMENT OF TRANSPORTATION

Federal Motor Carrier Safety Administration

[Docket No. FMCSA-2025-1381]

Agency Information Collection Activities; Renewal of an Approved Information Collection: Commercial Motor Vehicle Marking Requirements

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval and invites public comment. FMCSA requests approval to renew an ICR titled, “Marking of Self-Propelled CMVs and Intermodal Equipment.” The renewal of this ICR will enable FMCSA to continue documenting the burden associated with the commercial motor vehicle (CMV) marking regulations. These regulations require marking of self-propelled CMVs and intermodal equipment by motor carriers, freight forwarders, and intermodal equipment providers (IEPs) engaging in interstate transportation and motor carriers that transport hazardous materials (HM) in intrastate transportation subject to the Hazardous Materials Safety Permit (HMSP) rules.

DATES: Comments on this notice must be received on or before March 23, 2026.

ADDRESSES: You may submit comments identified by Docket Number FMCSA-2025-1381 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Stacy Ropp, Compliance Division, DOT, FMCSA, 1200 New Jersey Avenue SE, Washington, DC 20590-0001; 609-661-2062; Stacy.Ropp@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-1381), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-1381/document, click on this notice, click “Comment,” and type your comment into the text box on the following screen.

If you submit your comments by mail or hand delivery, submit them in an unbound format, no larger than 8½ by 11 inches, suitable for copying and electronic filing.

FMCSA will consider all comments and material received during the comment period.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

The Secretary of Transportation (Secretary) is authorized to require marking of vehicles and intermodal equipment by motor carriers, freight forwarders and IEPs engaging in interstate transportation based on the authority of 49 U.S.C. 31133(a)(8), 31133(a)(10), and 31136(a)(1). The Secretary delegated authority pertaining to the marking of CMVs to the Administrator of FMCSA in 49 CFR 1.87(f). The Agency's regulations governing the marking of CMVs is codified at 49 CFR 390.21T and 49 CFR 390.21 for motor carriers, freight forwarders, and IEPs engaging in interstate transportation and at 49 CFR 390.3T(g)(4) and 49 CFR 390.3(g)(4) for motor carriers that transport hazardous materials in intrastate transportation subject to the HMSP program under 49 CFR part 385.

Vehicle marking requirements are intended to ensure that FMCSA, the National Transportation Safety Board, and State safety officials can identify motor carriers and correctly assign responsibility for regulatory violations during inspections, investigations, compliance reviews, and crash studies. These marking requirements also provide the public with beneficial information that could assist in identifying carriers engaged in interstate commerce and for complaints or emergency notification. The marking requirements apply to motor carriers, freight forwarders, and IEPs engaging in interstate transportation and motor carriers that transport hazardous materials in intrastate transportation subject to the HMSP program under 49 CFR part 385. The Agency does not require a specific method of marking if the marking complies with FMCSA's regulations. The decrease of 2,509,249 estimated annual burden hours (7,196,938 approved estimated annual burden hours—4,687,689 proposed estimated annual burden hours) is due to adjustments in respondent and response estimates.

Title: Commercial Motor Vehicle Marking Requirements.

OMB Control Number: 2126-0054.

Type of Request: Renewal of a currently approved ICR.

Respondents: Freight-carrying commercial motor carriers, passenger-carrying commercial motor carriers, and intermodal equipment providers.

Estimated Number of Respondents: 938,861 total respondents (900,043 freight-carrying motor carriers; 20,878 intrastate hazardous materials transporting motor carriers; 16,409 passenger-carrying motor carriers; and 1,531 IEPs).

Estimated Time per Response: 26 minutes [12 minutes to affix USDOT Number + 14 minutes for affixing a carrier's name].

Expiration Date: July 31, 2026.

Frequency of Response: On occasion.

Estimated Total Annual Burden: 4,687,689 total hours (3,228,623 hours spent by freight-carrying motor carriers; 225,725 hours spent by intrastate hazardous materials transporting motor carriers; 58,375 hours spent by passenger-carrying motor carriers; and 1,174,966 hours spent by IEPs). All these entities spent these hours marking their CMVs with a USDOT number and motor carrier information.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Jonathan Mueller,
Acting Associate Administrator, Office of Research and Registration.

[FR Doc. 2026-01096 Filed 1-20-26; 8:45 am]

BILLING CODE 4910-EX-P